ENVIRONMENTAL PROTECTION AGENCY

[EPA-HQ-OAR-2007-0478; FRL-10007-18-OAR]

Proposed Information Collection Request; Comment Request; Regulation of Fuels and Fuel Additives: Gasoline Volatility

AGENCY: Environmental Protection Agency (EPA).

ACTION: Notice.

SUMMARY: The Environmental Protection Agency (EPA) is planning to submit an information collection request (ICR), Regulation of Fuels and Fuel Additives: Gasoline Volatility (EPA ICR No. 1367.13, OMB control No. 2060-0178), to the Office of Management and Budget (OMB) for review and approval in accordance with the Paperwork Reduction Act (PRA). Before doing so, EPA is soliciting public comments on specific aspects of the proposed information collection as described below. This is a proposed extension of the ICR, which is currently approved through December 31, 2020. An Agency may not conduct or sponsor and a person is not required to respond to a collection of information unless it displays a currently valid OMB control number.

DATES: Comments must be submitted on or before June 1, 2020.

ADDRESSES: Submit your comments, referencing Docket ID No. EPA-HQ-OAR-2007-0478, online using www.regulations.gov (our preferred method), by email to a-and-r-docket@epa.gov, or by mail to: EPA Docket Center, Environmental Protection Agency, Mail Code 28221T, 1200 Pennsylvania Ave. NW, Washington, DC 20460.

The EPA's policy is that all comments received will be included in the public docket without change including any personal information provided, unless the comment includes profanity, threats, information claimed to be Confidential Business Information (CBI) or other information whose disclosure is restricted by statute.

FOR FURTHER INFORMATION CONTACT: James W. Caldwell, Compliance Division, Office of Transportation and Air Quality, Mail Code 6405A, Environmental Protection Agency, 1200 Pennsylvania Ave. NW, Washington, DC 20460; telephone number: (202) 343-9303; fax number: (202) 343-2802; email address: caldwell.jim@epa.gov.

SUPPLEMENTARY INFORMATION: Supporting documents which explain in detail the information that the EPA will be collecting are available in the public docket for this ICR. The docket can be viewed online at www.regulations.gov or in person at the EPA Docket Center, WJC West Building, Room 3334, 1301 Constitution Ave. NW, Washington, DC. The telephone number for the Docket Center is 202-566-1744. For additional information about EPA's public docket, visit http://www.epa.gov/dockets.

Pursuant to section 3506(c)(2)(A) of the PRA, EPA specifically solicits comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register document to announce the submission of the ICR to OMB and the opportunity to submit additional comments to OMB.

Abstract: Gasoline volatility, as measured by Reid Vapor Pressure (RVP) in pounds per square inch (psi), is controlled during the summer ozone season (June 1 to September 15) in order to minimize evaporative hydrocarbon emissions from motor vehicles. RVP is subject to a federal standard of 7.8 psi or 9.0 psi, depending on location. The addition of ethanol to gasoline increases the RVP by about 1 psi. Gasoline that contains between nine and 15 volume percent ethanol is provided a 1.0 psi waiver such that the RVP may be up to 8.8 psi or 10.0 psi for a federal standard of 7.8 psi or 9.0 psi respectively. As an aid to industry compliance and EPA enforcement, the product transfer document (PTD), which is prepared by the gasoline producer or importer and which accompanies a shipment of gasoline containing ethanol, is required by regulation to contain a legible and conspicuous statement that the gasoline contains ethanol and the percentage concentration of ethanol. This is intended to deter the mixing within the distribution system, particularly in retail storage tanks, of gasoline containing between nine and 15 volume percent ethanol with gasoline which does not contain ethanol in that range. Such mixing would likely result in a gasoline which is in violation of its RVP standard. Also, a party seeking a testing exemption for research on gasoline that is not in compliance with the applicable volatility standard must submit certain information to EPA. EPA has additional PTD requirements for gasoline containing ethanol at 40 CFR 80.1503. Those requirements are covered in a separate ICR.

Form Numbers: None.

Respondents/affected entities: Entities potentially affected by this action are those who produce or import gasoline containing ethanol, or who wish to obtain a testing exemption.

Respondent's obligation to respond: Mandatory per 40 CFR 80.27(d) and (e).

Estimated number of respondents: 2,200.

Frequency of response: On occasion.

Total estimated burden: 1,410 hours per year. Burden is defined at 5 CFR 1320.03(b).

Total estimated cost: $154,030, includes $10 annualized capital or operation & maintenance costs.

Changes in Estimates: With just about all PTDs now computer-generated, the average time to include the regulatory language on each PTD has decreased from one second to 0.1 second. The total annual burden has decreased from 12.330 hours per year to 1,410 hours per year.

Dated: March 25, 2020.
Byron J. Bunker,
Director, Compliance Division, Office of Transportation and Air Quality, Office of Air and Radiation.

[FR Doc. 2020-06708 Filed 3-31-20; 8:45 am]

BILLING CODE 6560-50-P